NATIONAL AERONAUTICS AND SPACE ADMINISTRATION

[Notice: 15-097]

NASA Advisory Council; Aeronautics Committee Meeting

AGENCY: National Aeronautics and Space Administration.

ACTION: Notice of meeting.

SUMMARY: In accordance with the Federal Advisory Committee Act (Public Law 92-463), the National Aeronautics and Space Administration announces a meeting of the Aeronautics Committee of the NASA Advisory Council (NAC). This committee reports to the NAC.

DATES: Thursday, November 12, 2015, 9:30 a.m.-5:00 p.m., Local Time.

ADDRESSES: NASA Headquarters, Room 6E40, 300 E Street, SW., Washington, DC 20546.

FOR FURTHER INFORMATION CONTACT: Ms. Brenda L. Mulac, NAC Aeronautics Committee Executive Secretary, NASA Headquarters, Washington, DC 20546; phone: (202) 358-1578; email: brenda.l.mulac@nasa.gov.

SUPPLEMENTARY INFORMATION: The meeting will be open to the public up to the capacity of the room. This meeting is also available telephonically and by WebEx. You must use a touch-tone phone to participate in this meeting. Any person interested in participating in the meeting by telephone and WebEx should contact Ms. Brenda L. Mulac at (202) 358-1578 for the web link, toll-free number and password. (Password is case-sensitive.) NOTE: If dialing in, please “mute” your telephone. The agenda for the meeting includes the following topics:

• Vertical Lift Planning

• Aeronautics Research Data Access Approach

• Convergent Aeronautical Solutions Project

Attendees will be requested to sign a register and to comply with NASA security requirements, including the presentation of a valid picture ID, before receiving access to NASA Headquarters. Due to the Real ID Act, Public Law 109-13, any attendees with drivers licenses issued from non-compliant states/territories must present a second form of ID. [Federal employee badge; passport; active military identification card; enhanced driver's license; U.S. Coast Guard Merchant Mariner card; Native American tribal document; school identification accompanied by an item from LIST C (documents that establish employment authorization) from the “List of the Acceptable Documents” on Form I-9]. Non-compliant states/territories are: American Samoa, Arizona, Idaho, Louisiana, Maine, Minnesota, New Hampshire, and New York. Foreign nationals attending this meeting will be required to provide a copy of their passport and visa in addition to providing the following information no less than 10 working days prior to the meeting: full name; gender; date/place of birth; citizenship; visa information (number, type, expiration date); passport information (number, country, expiration date); employer/affiliation information (name of institution, address, country, telephone); title/position of attendee; and home address to Ms. Brenda L. Mulac, via fax at (202) 358-3602. U.S. citizens and Permanent Residents (green card holders) are requested to submit their name and affiliation no less than 3 working days prior to the meeting to Ms. Brenda L. Mulac. For questions, please call Ms. Brenda L. Mulac at (202) 358-1578. It is imperative that these meetings be held on this date to accommodate the scheduling priorities of the key participants.

Patricia D. Rausch,
Advisory Committee Management Officer, National Aeronautics and Space Administration.

[FR Doc. 2015-26786 Filed 10-21-15; 8:45 am]

BILLING CODE 7510-13-P